ENVIRONMENTAL PROTECTION AGENCY

40 CFR Part 63

National Emission Standards for Hazardous Air Pollutants for Source Categories

CFR Correction

In Title 40 of the Code of Federal Regulations, Part 63 (§ § 63.6580 to 63.8830), revised as of July 1, 2005, on page 309, in § 63.8395 paragraph (b), and on page 332, in § 63.8545 paragraph (b), remove “May 16, 2003” and add in its place “May 16, 2006”.

[FR Doc. 06-55523 Filed 6-22-06; 8:45 am]

BILLING CODE 1505-01-D